POSTAL SERVICE

39 CFR Part 20

International Mailing Services: Mailing Services Product and Price Changes—CPI

AGENCY: Postal Service.

ACTION: Final rule.

SUMMARY: The Postal Regulatory Commission (PRC) favorably reviewed an updated weight limitation for First-Class Mail International® (FCMI) large envelopes (flats) in PRC Order No. 4932, issued December 19, 2018, in PRC Docket No. MC2019-3. On March 11, 2019, in a filing at the PRC, the Postal Service announced an implementation date of June 23, 2019, for the revised FCMI large envelopes (flats) maximum weight limitation. The Postal Service has made the accompanying classification changes to Mailing Standards of the United States Postal Service, International Mail Manual (IMM®) in order to reflect this revised weight limitation.

DATES: Effective June 23, 2019.

FOR FURTHER INFORMATION CONTACT: Michelle Lassiter at 202-268-2914.

SUPPLEMENTARY INFORMATION: The Postal Service is revising several sections of Mailing Standards of the United States Postal Service, International Mail Manual (IMM), to reflect classification changes to Mailing Services. These changes implement a lower maximum weight limit on FCMI large envelopes (flats), to bring them closer to limits established by the Universal Postal Union (UPU).

I. Regulatory History

On October 10, 2018, the Postal Service filed a notice with the PRC in Docket No. R2019-1 of mailing services price adjustments, effective on January 27, 2019. In addition, on October 17, 2018, the Postal Service published a notice of proposed product and price changes in the Federal Register entitled “International Mailing Services: Proposed Product and Price Changes—CPI” (83 FR 52351). In the proposed rule, the Postal Service stated that on October 10, 2018, it also filed a notice with the PRC in Docket No. MC2019-3, proposing a change in the maximum weight limit for FCMI large envelopes (flats) from the current 64 ounces to under 16 ounces (the actual weight limit is 15.994 ounces, to accommodate Postal Service systems that round to three decimal places and thus round items that weigh 15.995-15.999 ounces up to 16 ounces). This change would more closely align the Postal Service's definition of FCMI large envelopes (flats) with the UPU Convention's weight limit, which allows a maximum weight of 500 grams (17.6 ounces) for flat-shaped letter post items.

II. Postal Regulatory Commission Orders

Because the proposed change to FCMI large envelopes (flats) upper weight limit that was the subject of Docket No. MC2019-3 was pending at the time the PRC was scheduled to complete its review in Docket No. R2019-1, the PRC issued an interim order on October 19, 2018, in Docket No. R2019-1. That interim order required the Postal Service to revise its filing in the R2019-1 docket so that the Postal Service's proposed changes in the R2019-1 docket would not include the proposed revision to the FCMI large envelopes (flats) maximum weight limit. See PRC Order No. 4859, Interim Order Relating to Outbound Single-Piece First-Class Mail International Flats, Docket No. R2019-1, October 19, 2018. The PRC subsequently favorably reviewed the revised maximum weight limit for FCMI large envelopes (flats) in Order No. 4932, issued December 19, 2018, in Docket No. MC2019-3. On March 11, 2019, the Postal Service announced an implementation date of June 23, 2019, for the revised FCMI large envelopes (flats) maximum weight limit. See Notice of the United States Postal Service of Effective Date of Update to the Maximum Weight Limit for Outbound Single-Piece First-Class Mail International Large Envelopes (Flats) in the Mail Classification Schedule, PRC Docket No. MC2019-3 (March 11, 2019).

III. Effective June 23, 2019

As a result, effective June 23, 2019, mailers must mail items weighing 15.994 ounces or more with First-Class Package International Service, Priority Mail Express International service, or Priority Mail International service. If a mailer, counter to the Postal Service's regulations, presents an FCMI large envelope (flat) weighing above the newly established weight limit, the Postal Service will offer the customer the option of mailing at the applicable First-Class Package International Service, Priority Mail Express International service, or Priority Mail International service price if the item meets the requirements for those mail classes.

International Priority Airmail (IPA) service, including IPA M-bags, is a commercial service designed for volume mailings of all FCMI postcards, letters, and large envelopes (flats), and for volume mailings of FCPIS packages (small packets). IPA shipments are typically flown to a foreign destination (exceptions apply to Canada and Mexico) and are then entered into that country's air or surface priority mail system for delivery. To qualify for IPA service, a mailpiece must either meet the FCMI characteristics defined in IMM 141.5 or the FCPIS characteristics as defined in IMM 141.6, except for weight, as follows:

—The maximum weight limit for IPA large envelopes (flats) is 17.6 ounces.

—The maximum weight limit for IPA packages (small packets) is 4.4 pounds.

International Surface Air Lift (ISAL) service, including ISAL M-bags, is a commercial service designed for volume mailings of all FCMI postcards, letters, and large envelopes (flats), and for volume mailings of FCPIS packages (small packets). ISAL shipments are typically flown to a foreign destination (exceptions apply to Canada and Mexico) and are then entered into that country's surface nonpriority mail system for delivery. To qualify for ISAL service, a mailpiece must meet either the FCMI characteristics defined in IMM 141.5 or the FCPIS characteristics as defined in IMM 141.6, except for weight, as follows:

—The maximum weight limit for ISAL large envelopes (flats) is 17.6 ounces.

—The maximum weight limit for ISAL packages (small packets) is 4.4 pounds.

Accordingly, for the reasons stated, the Postal Service has adopted the following changes to Mailing Standards of the United States Postal Service, International Mail Manual (IMM®), which is incorporated by reference in the Code of Federal Regulations in accordance with 39 CFR 20.1, along with associated changes to Notice 123, Price List.

List of Subjects in 39 CFR Part 20

Foreign relations, International postal services.

PART 20—[AMENDED]

1. The authority citation for 39 CFR Part 20 continues to read as follows:

Authority: 5 U.S.C. 552(a); 13 U.S.C. 301-307; 18 U.S.C. 1692-1737; 39 U.S.C. 101, 401, 403, 404, 407, 414, 416, 3001-3011, 3201-3219, 3403-3406, 3621, 3622, 3626, 3632, 3633, and 5001.

2. Revise the following sections of Mailing Standards of the United States Postal Service, International Mail Manual (IMM), as follows:

Mailing Standards of the United States Postal Service, International Mail Manual (IMM)

1 International Mail Services

* * * * *

120 Preparation for Mailing

* * * * *

123 Customs Forms and Online Shipping Labels

* * * * *

123.6 Required Usage

123.61 Conditions

* * * * *

Exhibit 123.61

Customs Declaration Form Usage by Mail Category

* * * * *

[Revise the First-Class Mail International section to read as follows:]

Type of item | Declared value, weight, or physical characteristic | Required PS form | Comment (if applicable)
* * * * * * *
First-Class Mail International Letters and Large Envelopes (Flats), as well as International Priority Airmail (IPA) Letters and Large Envelopes (Flats) and International Surface Air Lift (ISAL) Letters and Large Envelopes (Flats)
All First-Class Mail International letter-size and flat-size items, as defined in 241.2, containing only nondutiable documents | Under 16 ounces ¹ | None ² | See 123.63 for additional information concerning “documents.” Items containing merchandise are prohibited in First-Class Mail International.³
All IPA and ISAL letter-size and flat-size items, as defined in 241.2, containing only nondutiable documents | Under 16 ounces ¹ 16 ounces to 17.6 ounces | None ² 2976 | See 123.63 for additional information concerning “documents.” Items containing merchandise are prohibited in IPA/ISAL letters and large envelopes (flats).³
All items containing any goods, regardless of weight | Prohibited | Prohibited | See 123.63 for additional information concerning “documents” and merchandise. Items containing merchandise are prohibited in First Class Mail International and in IPA/ISAL letters and large envelopes (flats).³
* * * * * * *
[Below Exhibit 123.61, add three footnotes to read as follows:]
¹ The actual weight is 15.994 ounces, to accommodate Postal Service systems that round to three decimal places and thus round items that weight 15.995-15.999 ounces up to 16 ounces.
² Certain nonnegotiable documents controlled by export regulatory agencies may require customs documentation. See 510-540 and Publication 699 for additional information.
³ Items containing merchandise are mailable using Global Express Guaranteed service, Priority Mail Express International service, Priority Mail International service, or First-Class Package International Service; commercial mailers may also use IPA packages (small packets) and ISAL packages (small packets).

* * * * *

140 International Mail Categories

141 Definitions

* * * * *

141.5 First-Class Mail International

[Revise the first sentence (changing the weight limit) to read as follows:]

First-Class Mail International is a generic term for mailpieces that are postcard-size, letter-size, or flat-size and weigh less than 16 ounces (the actual weight limit is 15.994 ounces, to accommodate Postal Service systems that round to three decimal places and thus round items that weigh 15.995-15.999 ounces up to 16 ounces).* * *

* * * * *

2 Conditions for Mailing

* * * * *

240 First-Class Mail International

241 Description and Physical Characteristics

* * * * *

241.2 Physical Characteristics

* * * * *

241.23 Physical Standards — Large Envelopes (Flats)

241.231 Weight Limit

[Revise the text to read as follows (changing the weight limit):]

The weight limit for a First-Class Mail International large envelope (flat) is less than 16 ounces (the actual weight limit is 15.994 ounces, to accommodate Postal Service systems that round to three decimal places and thus round items that weigh 15.995-15.999 ounces up to 16 ounces).

* * * * *

243 Prices and Postage Payment Methods

* * * * *

243.3 Permit Imprint—General

[Revise the fourth sentence to read as follows:]

* * *For items requiring a customs form (First-Class Mail International letter-size and flat-size mailpieces containing nonnegotiable documents controlled by export regulatory agencies, covered in IMM 510-540), mailers must also meet the following requirements:* * *

* * * * *

Country Price Groups and Weight Limits

* * * * *

[Revise footnote 3 to read as follows:]

³ First-Class Mail International maximum weights: Letters, 3.5 ozs.; Large Envelopes (flats), under 16 ounces (the actual weight limit is 15.994 ounces to accommodate Postal Service systems that round to three decimal places and thus round items that weigh 15.995-15.999 ounces up to 16 ounces). First-Class Package International Service maximum weight: 4 lbs.

[In the table, in the second header row in the farthest column on the right, revise “Max. Wt. (ozs./lbs)3” to just “Max. Wt.,” and revise all of the entries in that column (except Somalia) to read as follows (with the entry for Afghanistan as an example) (the entry for Somalia remains “n/a”):]

Country | Global express guaranteed: Price group | Global express guaranteed: Max. Wt. (lbs.) | Priority mail express international: Price group | Priority mail express international: Max. Wt. (lbs.) | Priority mail express international: PMEI flat rate envelopes price group ¹ | Priority mail international: Price group | Priority mail international: Max. Wt. (lbs.) | Priority mail international: PMI flat rate envelopes and boxes price group ² | First-class mail international and first-class package international service: Price group | First-class mail international and first-class package international service: Max. Wt.
Afghanistan | 6 | 70 | n/a | n/a | n/a | 6 | 66 | 8 | 6 | See Note 3.
* * * * * * *

* * * * *

Brittany M. Johnson,
Attorney, Federal Compliance.

[FR Doc. 2019-11821 Filed 6-5-19; 8:45 am]

BILLING CODE 7710-12-P